DEPARTMENT OF HEALTH AND HUMAN SERVICES

National Institutes of Health

National Institute of Mental Health; Amended Notice of Meeting

Notice is hereby given of a change in the meeting of the National Institute of Mental Health Special Emphasis Panel, March 24, 2022, 9:00 a.m. to March 24, 2022, 5:00 p.m., National Institutes of Health, Neuroscience Center, 6001 Executive Boulevard, Rockville, MD, 20852, which was published in the Federal Register on February 28, 2022, FR DOC 2022-04158, 87 FR 11080.

This notice is being amended to change the date from March 24, 2022, to April 5, 2022. Meeting time and location remain the same. The meeting is closed to the public.

Dated: March 11, 2022.
Melanie J. Pantoja,
Program Analyst, Office of Federal Advisory Committee Policy.

[FR Doc. 2022-05563 Filed 3-15-22; 8:45 am]

BILLING CODE 4140-01-P